DEPARTMENT OF COMMERCE

International Trade Administration

[A-821-817]

Silicon Metal From Russia: Continuation of Antidumping Duty Order

AGENCY: Enforcement and Compliance, International Trade Administration, Department of Commerce.

SUMMARY: As a result of the determinations by the Department of Commerce (Commerce) and the International Trade Commission (ITC) that revocation of the antidumping duty (AD) order on silicon metal from Russia would likely lead to a continuation or recurrence of dumping and material injury to an industry in the United States, Commerce is publishing a notice of continuation of the AD order.

DATES: Applicable June 24, 2020.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On March 26, 2003, Commerce published the AD order on silicon metal from Russia.¹ On June 4, 2019, Commerce initiated the third five-year (sunset) review of the AD order, pursuant to section 751(c) of the Tariff Act of 1930, as amended (the Act).² As a result of its review, Commerce determined, pursuant to sections 751(c)(1) and 752(c) of the Act, that revocation of the AD order on silicon metal from Russia would likely lead to a continuation or recurrence of dumping. Commerce, therefore, notified the ITC of the magnitude of the margins likely to prevail should the AD order be revoked, in accordance with section 752(c)(3) of the Act.³

¹ See Antidumping Duty Order: Silicon Metal from Russia, 68 FR 14578 (March 26, 2003) (AD order), amended by Silicon Metal from the Russian Federation; Notice of Amended Final Determination Pursuant to Court Decision, 71 FR 8277 (February 16, 2006).

² See Initiation of Five-Year (Sunset) Reviews, 84 FR 25741 (June 4, 2019).

³ See Silicon Metal from the Russian Federation: Final Results of Expedited Third Sunset Review of the Antidumping Duty Order, 84 FR 54594 (October 10, 2019).

On June 3, 2020, the ITC determined that revocation of the AD order would lead to a continuation or recurrence of material injury to an industry in the United States within a reasonably foreseeable time, pursuant to sections 751(c) and 752(a) of the Act.⁴

⁴ See Silicon Metal from Russia, 85 FR 34237 (June 3, 2020).

Scope of the Order

The product covered by this order is silicon metal, which generally contains at least 96.00 percent but less than 99.99 percent silicon by weight. The merchandise covered by this order also includes silicon metal from Russia containing between 89.00 and 96.00 percent silicon by weight, but containing more aluminum than the silicon metal which contains at least 96.00 percent but less than 99.99 percent silicon by weight. Silicon metal currently is classifiable under subheadings 2804.69.10 and 2804.69.50 of the Harmonized Tariff Schedule of the United States (HTSUS). This order covers all silicon metal meeting the above specification, regardless of tariff classification.

Continuation of the AD Order

As a result of the determinations by Commerce and the ITC that revocation of the AD order would likely lead to a continuation or recurrence of dumping and material injury to an industry in the United States, pursuant to section 751(d)(2) of the Act and 19 CFR 351.218(a), Commerce hereby orders the continuation of the AD order on silicon metal from Russia. U.S. Customs and Border Protection will continue to collect AD cash deposits at the rates in effect at the time of entry for all imports of subject merchandise. The effective date of the continuation of the order will be the date of publication in the Federal Register of this notice of continuation. Pursuant to section 751(c)(2) of the Act and 19 CFR 351.218(c)(2), Commerce intends to initiate the next five-year review of the order not later than 30 days prior to the fifth anniversary of the effective date of continuation.

Administrative Protective Order (APO)

This notice also serves as the only reminder to parties subject to APO of their responsibility concerning the return, destruction, or conversion to judicial protective order of proprietary information disclosed under APO in accordance with 19 CFR 351.305(a)(3). Failure to comply is a violation of the APO which may be subject to sanctions.

Notification to Interested Parties

This five-year (sunset) review and this notice are in accordance with section 751(c) of the Act and published pursuant to section 777(i)(1) of the Act and 19 CFR 351.218(f)(4).

Dated: June 17, 2020.
Jeffrey I. Kessler,
Assistant Secretary for Enforcement and Compliance.

[FR Doc. 2020-13641 Filed 6-23-20; 8:45 am]

BILLING CODE 3510-DS-P